DEPARTMENT OF AGRICULTURE

Rural Business-Cooperative Service

[Docket #RBS-21-Business-0012]

Inviting Applications for the Rural Innovation Stronger Economy (RISE) Grant Program

AGENCY: Rural Business-Cooperative Service, USDA.

ACTION: Notice of funding availability.

SUMMARY: This notice announces that the Rural Business-Cooperative Service (Agency) is accepting fiscal year (FY) 2021 applications for the Rural Innovation Stronger Economy (RISE) program. The program funding level for FY 2021 is a total of $10 million. The purpose of this program is to provide financial assistance to support job accelerator partnerships that improve the ability of distressed rural and energy communities to create high wage jobs, accelerate the formation of new businesses, and help rural communities identify and maximize local assets.

DATES: Completed applications must be submitted electronically by no later than 11:59 p.m. Eastern time, August 2, 2021, through Grants.gov, to be eligible for grant funding. Please review the Grants.gov website at http://grants.gov/applicants/organization_registration.jsp for instructions on the process of registering your organization as soon as possible to ensure that you are able to meet the electronic application deadline. Late applications are not eligible for funding under this notice and will not be evaluated.

ADDRESSES: You are encouraged to contact your USDA Rural Development State Office well in advance of the application deadline to discuss your project and ask any questions about the RISE program or application process. Contact information for State Offices can be found at http://www.rd.usda.gov/contact-us/state-offices.

Program guidance as well as an application template may be obtained at http://www.rd.usda.gov/RISEgrant-program. To submit an electronic application, follow the instructions for the RISE funding announcement located at http://www.grants.gov.

FOR FURTHER INFORMATION CONTACT: Will Dodson, Rural Business-Cooperative Service, United States Department of Agriculture, 1400 Independence Avenue, SW, Mail Stop-3226, Room 5160-South, Washington, DC 20250-3226, (202) 720-1400 or email will.dodson@usda.gov.

SUPPLEMENTARY INFORMATION:

Preface

As outlined in the Initial Report to the President on Empowering Workers Through Revitalizing Energy Communities, available at https://netl.doe.gov/IWGInitialReport, the Agency encourages energy communities to utilize the RISE program to support workforce development; identify and maximize local assets; spur job creation; and connect to regional opportunities, networks, and industry clusters.

To focus investments to areas for the largest opportunity for growth in prosperity, the Agency encourages applications that serve the smallest communities with the lowest incomes, with an emphasis on areas where at least 20 percent of the population is living in poverty, according to the American Community Survey data by census tracts.

Overview

Federal Agency: Rural Business-Cooperative Service.

Funding Opportunity Title: Rural Innovation Stronger Economy Grant Program.

Announcement Type: Initial Notice.

Catalog of Federal Domestic Assistance Number: 10.755

Date: Application Deadline. Electronic applications must be received and accepted by http://www.grants.gov no later than 11:59 p.m. Eastern time, August 2, 2021, or it will not be considered for funding.

The Application Template provides specific, detailed instructions for each item of a complete application. The Agency emphasizes the importance of including every item and strongly encourages applicants to follow the instructions carefully, using the examples and illustrations in the Application Template. Prior to official submission of applications, applicants may request technical assistance or other application guidance from the Agency, as long as such requests are made prior to July 16, 2021. Agency contact information can be found in Section D of this document.

Hemp related projects: Please note that no assistance or funding from this grant can be provided to a hemp producer unless they have a valid license issued from an approved State, Tribal or Federal plan as defined by the Agriculture Improvement Act of 2018, Public Law 115-334. Verification of valid hemp licenses will occur at the time of award.

The Agency will not solicit or consider new scoring or eligibility information that is submitted after the application deadline. The Agency reserves the right to contact applicants to seek clarification on materials contained in the submitted application. See the Application Template for a full discussion of each item. For requirements of completed grant applications, refer to Section D of this document.

Paperwork Reduction Act

In accordance with the Paperwork Reduction Act of 1995 (44 U.S.C. chapter 35), USDA requested that the Office of Management and Budget (OMB) conduct an emergency review of a new information collection that contains the Information Collection and Recordkeeping requirements contained in this notice by May 28, 2021. In addition to the emergency clearance, the regular clearance process is initiated in the regulation publication (RIN 0570-AB06), which published in the issue June 15, 2021 issue of the Federal Register, to provide the public with the opportunity to comment under a full comment period. The information collection requirement contained in this notice is under the OMB Control Number 0570-0075.

A. Program Description

The RISE program is a new grant program authorized under section 6424 of the Agriculture Improvement Act of 2018 (Pub. L. 115-334) (2018 Farm Bill) to help struggling communities by funding job accelerators in low-income rural communities. You are required to comply with the regulations for this program published at 7 CFR part 4284, subpart L, which is adopted by reference in this notice. Therefore, you should become familiar with these regulations. The primary objective of the RISE program is to support jobs accelerator partnerships to improve the ability of distressed rural and energy communities to create high wage jobs, accelerate the formation of new businesses, and help rural communities identify and maximize local assets. Grants are awarded on a competitive basis. The minimum award per grant is $500,000 and the maximum award amount per grant is $2,000,000. Grant funds may be used to pay for up to 80 percent of eligible project costs. Grant funds may be used to pay for costs directly related to the purchase or construction of an innovation center located in a rural area; costs directly related to operations of an innovation center including purchase of equipment, office supplies, and administrative costs including salaries directly related to the project; costs directly associated with support programs to be carried out at or in direct partnership with job accelerators; reasonable and customary travel expenses directly related to job accelerators and at rates in compliance with 2 CFR 200.474; utilities, operating expenses of the innovation center and job accelerator programs and associated programs; and administrative costs of the grantee not exceeding 10% of the grant amount for the duration of the project.

Definitions

The terms you need to understand are defined and published at 7 CFR 4284.1103. In addition, the terms “rural” and “rural area,” defined at section 343(a)(13) of the Consolidated Farm and Rural Development Act (7 U.S.C. 1991(a)(13)), are adopted by reference, and will be used for this program. The term “you” referenced throughout this notice should be understood to mean “you” the applicant.

B. Federal Award Information

Type of Award: Competitive Grant.

Fiscal Year Funds: FY 2020 and FY 2021.

Total Funding: $10,000,000.

Minimum Award: $500,000.

Maximum Award: $2,000,000.

Anticipated Award Date: September 15, 2021.

C. Eligibility Information

1. Eligibility

Applicants must meet all the following eligibility requirements. Applications which fail to meet any of these requirements by the application deadline will be deemed ineligible and will not be evaluated further.

(1) Applicant Eligibility

To be considered an eligible applicant, you must be a rural jobs accelerator partnership formed on or after December 20, 2018, and meet the eligibility criteria found in 7 CFR 4282.1112 to apply for this program. The rural jobs accelerator partnership must include one or more representatives of the following:

(a) A state, Tribal or local government;

(b) A state, Tribal, or local government entity;

(c) A land-grant college or university or other institution of higher education, as defined in the Higher Education Act of 1965 (20 U.S.C. 1001);

(d) A rural non-profit cooperative; or,

(e) A private entity, which may include a business in an industry cluster, economic development or community development organization, financial institution including a community development financial institution, philanthropic organization, or labor organization.

(2) Lead Applicant Eligibility

The rural jobs accelerator partnership must also have a lead applicant who is responsible for the administration of the grant proceeds and activities. A lead applicant must be one of the following entities:

(a) A district organization;

(b) An Indian Tribe, or a political subdivision of an Indian Tribe, including a special purpose unit of an Indian Tribe, or a consortium of Indian Tribes;

(c) A state or a political subdivision of a state, including a special purpose unit of a State or local government engaged in economic development activities, or a consortium of political subdivisions;

(d) An institution of higher education (as defined in section 101 of the Higher Education Act of 1965 (20 U.S.C. 1001) or a consortium of institutions of higher education;

(e) A public or private nonprofit organization.

(3) Additional Eligibility Requirements

You must also meet the following requirements:

(a) An applicant is not eligible if they have been debarred or suspended or otherwise excluded from or ineligible for participation in Federal assistance programs under Executive Order 12549, “Debarment and Suspension.” The Agency will check the System for Award Management (SAM) at the time of application and prior to funding any grant award to determine if the applicant has been debarred or suspended. In addition, an applicant will be considered ineligible for a grant due to an outstanding judgment obtained by the U.S. in a Federal Court (other than U.S. Tax Court), is delinquent on the payment of Federal income taxes, or is delinquent on Federal debt. See 7 CFR 4284.6. The applicant must certify as part of the application that they do not have an outstanding judgment against them. The Agency will check the Do Not Pay System at the time of application and also prior to funding any grant award to verify this information.

(b) Any corporation that has been convicted of a felony criminal violation under any Federal law within the past 24 months or that has any unpaid Federal tax liability that has been assessed, for which all judicial and administrative remedies have been exhausted or have lapsed, and that is not being paid in a timely manner pursuant to an agreement with the authority responsible for collecting the tax liability, is not eligible for financial assistance, unless a Federal agency has considered suspension or debarment of the corporation and has made a determination that this further action is not necessary to protect the interests of the Government.

(c) Applications will be deemed ineligible if the application includes any funding restrictions identified under Section D.6(a) and (b) of this notice. Inclusion of funding restrictions outlined in Section D.6(a) and (b) of this notice preclude the Agency from making a federal award.

(d) Applications will be deemed ineligible if the application is not complete in accordance with the requirements stated in Section C.3.

2. Cost Sharing or Matching

Your matching funds requirement is 20 percent of the total eligible project costs of any activity carried out using RISE grant funds. Additional information on matching funds is found at 7 CFR 4284.1114. When you calculate your matching funds requirement, please round up or down to whole dollars as appropriate. To calculate your matching funds requirement, multiply your total eligible project costs of each eligible activity by 0.20.

You must provide a written commitment of matching funds to verify that all matching funds are available during the grant period and provide this documentation with your application in accordance with requirements identified in Section D.2.(d)(5)(xii)(A) of this notice. If you are awarded a grant, additional verification documentation may be required to confirm the availability of matching funds for the duration of the grant term.

Matching funds must meet all of the following requirements:

(a) They must be spent on eligible expenses during the grant period.

(b) They must be from eligible sources.

(c) They must be spent in advance or as a pro-rata portion of grant funds being spent.

(d) They must be provided by either the applicant or a third party in the form of cash or an in-kind contribution.

(e) They cannot include other Federal grants unless provided by authorizing legislation.

(f) They cannot include cash or in-kind contributions donated outside of the grant period.

(g) They cannot include over-valued, in-kind contributions.

(h) They cannot include any project costs that are ineligible under the RISE program.

(i) They cannot include any project costs that are restricted or unallowable under 2 CFR part 200, subpart E, and the Federal Acquisition Regulation (for-profits) or successor regulation.

(j) They can include reasonable and customary travel expenses for staff delivering the RISE program if you have established written policies explaining how these costs are normally reimbursed, including rates. You must include an explanation of this policy in your application or the contributions will not be considered as eligible matching funds.

(k) You must be able to document and verify the number of hours worked and the value associated with any in-kind contribution being used to meet a matching funds requirement.

(l) In-kind contributions provided by individuals, businesses, or cooperatives which are being assisted by you cannot be provided for the direct benefit of their own projects as the Agency considers this to be a conflict of interest or the appearance of a conflict of interest.

3. Other Eligibility Requirements

(a) Completeness

Your application will not be considered for funding if it fails to meet all eligibility criteria by the application deadline or if it does not provide sufficient information to determine eligibility and scoring. You must include all the forms and proposal elements as discussed in the regulation and as clarified further in this notice in one package. Incomplete applications will not be reviewed by the Agency. For more information on what is required for a complete application, see 7 CFR 4284.1115.

(b) Purpose Eligibility

Your application must propose the establishment of an innovation center and/or costs directly related to operations of an innovation center and/or costs directly associated with support of programs to be carried out at or in direct partnership with job accelerators as outlined in 7 CFR 4284.1113. The applicant project outcome must accelerate the formation of new businesses with high-growth potential, improve the ability of rural businesses and distressed rural communities to create high-wage jobs, and strengthen rural regional economies. You must use project funds, including grant and matching funds, for eligible purposes only as outlined in 7 CFR 4284.114.

(c) Project Eligibility

All project activities must be for the benefit of communities, industries and residents located in a rural area, as defined in 7 CFR 4284.1103. The applicant is cautioned against taking any actions or incurring any obligations prior to the Agency completing the environmental review that would either limit the range of alternatives to be considered or that would have an adverse effect on the environment, such as the initiation of construction. If the applicant takes any such actions or incurs any such obligations, it could result in project ineligibility.

Projects involving the construction of an innovation center as an eligible purpose are subject to the environmental requirements of 7 CFR part 1970, local building codes and all Federal, State, and local accessibility standards.

(d) Multiple Application Eligibility

Only one application can be submitted per applicant, who is defined as a lead applicant as found in 7 CFR 4282.1112(b). If two applications are submitted by the same lead applicant, both applications will be determined ineligible for funding.

(e) Grant Period

Your application must include no more than a four-year grant period, or it will not be considered for funding. The grant period should begin no earlier than October 1, 2021, and no later than January 1, 2022. Applications that request funds for a project with a performance period ending after January 1, 2026, will not be considered for funding. Projects must be completed within a four-year timeframe. Prior approval is needed from the Agency if you are awarded a grant and desire the grant period to begin earlier or later than previously discussed or approved.

The Agency may approve requests to extend the grant period for up to an additional two-year period at its discretion. Further guidance on grant period extensions will be provided in the award document.

(f) Satisfactory Progress

The lead applicant must be performing satisfactorily on any outstanding RISE award to be considered eligible for a new award as found in 7 CFR 4282.1110(a). Satisfactory performance includes being up to date on all financial and performance reports as prescribed in the grant award, and current on tasks and timeframes for utilizing grant and matching funds as approved in the work plan and budget.

D. Application and Submission Information

1. Address To Request Application Package

For further information and program materials, you should contact the Rural Development National Office at https://www.rd.usda.gov/programs-services/rural-innovation-stronger-economy-grants. materials may also be obtained at http://www.rd.usda.gov.

2. Content and Form of Application Submission

Applications will be accepted electronically through Grants.gov. You are encouraged, but not required to utilize the application template found at https://www.rd.usda.gov/programs-services/rural-innovation-stronger-economy-grants.

(a) Electronic Submission

An optional-use Agency application template is available online at http://www.rd.usda.gov. To apply electronically, you must use the Grants.gov website at http://www.Grants.gov. You may not apply electronically in any way other than through Grants.gov.

You can locate the Grants.gov downloadable application package for this program by using a keyword, the program name, or the Catalog of Federal Domestic Assistance Number for this program.

When you enter the Grants.gov website, you will find information about applying electronically through the site, as well as the hours of operation.

To use Grants.gov, you must already have a DUNS number and you must also be registered and maintain registration in SAM. We strongly recommend that you do not wait until the application deadline date to begin the application process through Grants.gov.

You must submit all your application documents electronically through Grants.gov. Applications must include electronic signatures. Original signatures may be required if funds are awarded.

After electronically applying through Grants.gov, you will receive an automatic acknowledgement from Grants.gov that contains a Grants.gov tracking number.

(b) Supplemental Information

Your application must contain all the required forms and proposal elements described in 7 CFR 4284.1115 and as otherwise clarified in this notice. If your application is incomplete, it is ineligible to compete for funds. Applications lacking sufficient information to determine eligibility and scoring criteria will be considered ineligible. Information submitted after the application deadline will not be accepted.

(c) Clarifications on Forms

Your DUNS number should be identified in the “Organizational DUNS” field on Standard Form (SF) 424, “Application for Federal Assistance.” You must also provide your SAM Commercial and Government Entity (CAGE) Code and expiration date under the applicant eligibility discussion in your proposal narrative. If you do not include the CAGE code and expiration date and the DUNS number in your application, it will not be considered for funding.

You can voluntarily fill out and submit the “Survey on Ensuring Equal Opportunity for Applicants,” as part of your application if you are a nonprofit organization.

(d) Clarifications on Proposal Elements

Applicants may only submit one RISE grant application each Federal Fiscal Year. There are no specific limitations on the number of pages or other formatting requirements of an application, but a complete application should be in a narrative form using a minimum of 11-point font and must consist of the following components:

(1) Rural jobs accelerator partnership information including the members and structure of the partnership, the date formalized, and the governance or leadership board. The information will identify the lead applicant and each partner's ties to the region, their roles in the delivery of the RISE program, and any history of previous collaboration between partners. The amount and source of anticipated matching funds will also be provided.

(2) Describe the geographic region to be served including the total population, economic characteristics of the region such as unemployment rates and income levels. Industry sectors, their status, size and economic contribution to the region and all communities including metropolitan statistical areas and nonmetro low income communities within the region should be identified. The availability and planned enhancements of broadband service and other assets of the region should also be identified. If the region to be served has a population of more than 50,000 inhabitants, the applicant must document why they believe the area is “rural in character” including, but not limited to, the area's population density, demographics, and topography and how the local economy is tied to a rural economic base.

(3) Identify the industry cluster(s) that will be prioritized by the rural jobs accelerator partnership with information on the firms and support industries in those clusters. Describe the status of the industry (as emerging, existing, or declining) any existing interconnection and networks within the industry cluster and describe participation and scale of small and disadvantaged businesses within the industry cluster. Describe the opportunities or potential of industry growth in the region and competitive advantages of the region and industry cluster should be highlighted along with opportunities within the industry for the creation of or upgrading to high wage jobs.

(4) An executive summary, project plan and scope of work must be provided with the applicant's strategy, activities, budget, goals and objectives for the use of RISE funds. The applicant should also provide information on the sustainability of the partnership and jobs accelerator at the conclusion of the RISE grant period.

(5) The lead applicant must be registered in the System for Award Management (SAM) and submit a complete application consisting of the elements specified in (b)(5)(i) through (b)(5)(xiii), as applicable, of this section.

(i) Form SF-424, “Application for Federal Assistance.”

(ii) Form SF-424A, “Budget Information—Non-Construction Programs,” if applicable.

(iii) Form SF-424C, “Budget Information—Construction Programs,” if applicable.

(iv) Form SF-424D, “Assurances—Construction Programs,” if applicable.

(v) RD Form 400-1, “Equal Opportunity Agreement,” for construction projects only.

(vi) Identify the ethnicity, race, and gender characteristics of the lead applicant's leadership. This information is optional and is not a required component for a complete application.

(vii) Certification that the lead applicant is a legal entity in good standing (as applicable) and operating in accordance with the laws of the state(s) or Tribe where the applicant exists.

(viii) The lead applicant must identify whether or not the lead applicant has a known relationship or association with an Agency employee. If there is a known relationship, the lead applicant must identify each Agency employee with whom the lead applicant has a known relationship.

(ix) Readiness Demonstration, which shall be comprised of the following items:

(A) Description of readiness of all partners of the rural jobs accelerator partnership to contribute to the project including their ability to coordinate activities, finances, and outcomes of the project.

(B) Evidence of a formal agreement among partners of the rural jobs accelerator partnership for delivery of the RISE program.

(C) Evidence of demonstrated readiness in administering the RISE grant, if awarded, including demonstration of potential success in establishment of a jobs accelerator project, which targets an industry cluster and the initiatives of the RISE grant. The application should indicate when activities related to the expected outcomes will commence.

(D) Description of how the project will be marketed in the region and how the rural jobs accelerator partnership will capture any program impacts and success stories.

(E) Timeline describing the proposed tasks to be accomplished and the schedule for implementation of each task.

(x) Provide documentation of how the RISE project will impact the initiatives below, as applicable, including a brief description of how and when the initiative will be delivered.

(A) Linking rural communities and entrepreneurs to markets, networks, industry clusters, and other regional opportunities to support high wage job creation, new business formation, business expansion, and economic growth;

(B) Integrating small businesses into a supply chain;

(C) Creating or expanding commercialization activities for new business formation;

(D) Identifying and building assets in rural communities that are crucial to supporting regional economies;

(E) Facilitating the repatriation of high wage jobs to the United States;

(F) Supporting the deployment of innovative processes, technologies, and products;

(G) Enhancing the capacity of small businesses in regional industry clusters, including small and disadvantaged businesses;

(H) Increasing United States exports and business interaction with international buyers and suppliers;

(I) Developing the skills and expertise of local workforces, entrepreneurs, and institutional partners to meet the needs of employers and prepare workers for high wage jobs in the identified industry clusters, including the upskilling of incumbent workers; and

(J) Ensuring rural communities have the capacity and ability to carry out projects related to housing, community facilities, infrastructure, or community and economic development to support regional industry cluster growth.

(xi) Potential to produce high wage jobs and benefit rural small and disadvantaged businesses, including a description of the following:

(A) Describe how the project will develop the skills and expertise of the local workforce, entrepreneurs and institutional partners to meet the needs of employers and prepare high wage jobs in the targeted industry cluster(s), which may also include the upskilling of incumbent worker.

(B) Demonstrate how the project will benefit the skills and expertise of small and disadvantaged businesses, as applicable.

(C) Demonstrate any participation of higher education, applied research institutions, workforce development entities and community-based organizations, that are willing to partner with the project to provide workers with skills relevant to the industry cluster needs of the region, with an emphasis on the use of on-the-job training, classroom occupational training or incumbent worker training, as applicable.

(D) Demonstrate any participating investment organizations, venture development organizations, venture capital firms, revolving loan funders, angel investment groups, community lenders, community development financial institutions, rural business investment companies, small business companies (as defined in Section 103 of the Small Business Investment Act of 1958 (15 U.S.C. 662)), philanthropic organizations, and other institutions focused on expanding access to capital, are committed partners in the job accelerator partnership and willing to potentially invest in projects emerging from the jobs accelerator.

(xii) Describe the targeted region, including the following information:

(A) Provide the latest Census Bureau information on the targeted region's median household income.

(B) Provide the latest Census Bureau information on the targeted region's educational attainment, specifically the percentage of the population who hold a bachelor's degree.

(C) Discuss how any direct career training will be provided to existing residents of the region (existing residents being those that live in the region at the time of application submission).

(D) Discuss any local support for the RISE project.

(E) Discuss the entrepreneurial commitment to the RISE project.

(F) Discuss any innovative processes and technologies to be utilized in the targeted industry cluster(s) of the RISE project.

(G) Discuss the initial and continuing capital investment in the RISE project.

(H) Discuss any demand for regional and global markets of the product and/or service provided by the targeted industry cluster.

(I) Discuss if the region consists of any areas or communities that qualify for federal initiatives.

(J) Elaborate on the current broadband service within the region and any plans to leverage the current broadband service or enhance broadband service in the region through the RISE project.

(xiii) Financial information, including the following:

(A) Identification of matching funds and other sources of funds for the project. Provide written commitments for matching funds and other sources of funds at the time the application is submitted.

(B) Current financial statements and a narrative description demonstrating financial feasibility and sustainability of the project, all of which demonstrate sufficient resources and expertise to undertake and complete the project and how the project will be sustained following completion.

(e) Upon receipt of a complete application, the Agency will determine if the applicant and project are eligible and whether the intended outcomes described meet the requirements of the RISE program. If the application is ineligible or not feasible, the Agency will inform the applicant in writing of the reasons for the Agency's determination and no further evaluation of the application will occur.

3. Submission Date and Time

Explanation of Deadline: Completed applications must be submitted electronically by no later than 11:59 p.m. Eastern Time, August 2, 2021, through Grants.gov, to be eligible for grant funding. Please review the Grants.gov website at http://grants.gov/applicants/organization_registration.jsp for instructions on the process of registering your organization as soon as possible to ensure that you can meet the electronic application deadline. Grants.gov will not accept applications submitted after the deadline.

4. Intergovernmental Review of Applications

Executive Order (E.O.) 12372, “Intergovernmental Review of Federal Programs,” does not apply to this program.

5. Funding Restrictions

(a) Project funds, including grant and matching funds, cannot be used for ineligible grant purposes (see 7 CFR 4284.1114(d)), 2 CFR part 200, subpart E, “Cost Principles,” and the most current Federal Acquisition Regulation (for-profits) or successor regulations.

(b) In addition, your application will not be considered for funding if it:

(i) Focuses assistance on only one business; or

(ii) Requests less than the minimum grant amount or more than the maximum grant amount.

6. Other Submission Requirements

(a) You should not submit your application in more than one format or in more than one submission. You must submit your application electronically. Note that we cannot accept applications through mail or courier delivery, in-person delivery, email, or fax. To submit an application electronically, you must follow the instruction for this funding announcement at http://www.grants.gov. A password is not required to access the website.

(b) National Environmental Policy Act

All recipients under this notice are subject to the requirements of 7 CFR part 1970. However, technical assistance awards under this notice are classified as a Categorical Exclusion according to 7 CFR 1970.53(b), and usually do not require any additional documentation.

The Agency will review each grant application to determine its compliance with 7 CFR part 1970. The applicant may be asked to provide additional information or documentation to assist the Agency with this determination.

(c) Civil Rights Compliance Requirements

All grants made under this notice are subject to Title VI of the Civil Rights Act of 1964 as required by the USDA (7 CFR part 15, subpart A) and Section 504 of the Rehabilitation Act of 1973.

E. Application Review Information

The National Office will review applications to determine if they are eligible for assistance based on requirements in 7 CFR part 4284, subpart L, this notice, and other applicable Federal regulations. If determined eligible, your application will be scored by a panel of USDA employees in accordance with the point allocation specified in this notice. Applications will be funded in rank order until the funding limitation has been reached. Applications that cannot be fully funded may be offered partial funding at the Agency's discretion.

1. Scoring Criteria

Scoring criteria will follow criteria published at 7 CFR 4284.1117. The regulatory and statutory criteria are clarified and supplemented below.

The Agency will score each complete and eligible RISE application using the criteria specified in paragraphs (a) through (g) of this section with a maximum score of 100 points possible. Points will be allowed only for factors indicated by well documented, reasonable plans which, in the opinion of the Agency, provide assurance that the items have a high probability of being accomplished. Points will be awarded at the discretion of the Agency to scoring criteria with a minimum and maximum number of points available. Applicants that demonstrate the experience or ability to deliver the stated criteria will be awarded higher points in that criteria.

(a) Demonstrated readiness. The rural jobs accelerator partnership demonstrates readiness in administering the RISE grant successfully and shows strong documentation indicating the potential for success in establishing a jobs accelerator project which targets an industry cluster and the initiative(s) of the RISE grant program. Points are awarded on a scale of 0 to 10 with a maximum of 10 points being awarded.

(b) Targeted initiatives. A maximum of 15 points will be awarded for this criterion based on meeting the targeted initiatives as stated in § 4284.1115(b)(2)(xi) of this part with action narratives outlined in the application on how and when the initiatives will be delivered. More points will be awarded for reasonable initiatives that can be delivered within 12 months of the grant award and for those projects leveraging improvements in high-speed broadband service to the region.

(c) Project support. Points will be awarded for the strength of local support of the RISE project and entrepreneurial commitment. A maximum of 15 points can be awarded for application materials that indicate the strength of support for the RISE project. Points will be awarded from the partnership's demonstration of its sources of funding, personnel and technical resources committed to the project, and a focus on the inclusion of institutional partners expanding access to capital and willingness to potentially invest in projects emerging from the jobs accelerator. Points shall also be awarded for demonstrated resources that will sustain the project beyond the term of the RISE grant period.

(d) Targeted region. A maximum of 20 points will be awarded for this criterion based on the region's demographics according to the latest Census Bureau information. The applicant must provide adequate documentation to the latest Census Bureau information to receive points.

(1) If the targeted region has a median household income of:

(i) 50% or less of state median household income; 5 points will be awarded;

(ii) Over 50% and up to 80% of state median household income; 3 points will be awarded.

(2) If the targeted region residents have the educational attainment of a bachelor's degree by:

(i) 10% or less of the population; 5 points will be awarded;

(ii) Over 10% and up to 30% of the population; 3 points will be awarded.

(3) Existing residents of the targeted region will receive direct career training for new employment or upscaling to a high wage job; 5 points will be awarded.

(4) If the identified region has fewer than 50,000 residents according to the most recent decennial census; 5 points will be awarded.

(e) RISE grant funds requested. A maximum of 10 points will be awarded for this criterion if:

(i) The RISE grant request is for $500,000 to $750,000; 10 points will be awarded.

(ii) The RISE grant request is for over $750,000 and up to $1,000,000; 5 points will be awarded.

(f) Regional impact. Points are awarded on a scale of 0 to 5 points for each category, with a total maximum of 20 points being awarded for this criterion. To receive points, the applicant must provide documentation to warrant strength on the following criteria, with points awarded for each:

(i) Targeted industry(ies) in the region is classified as an emerging industry.

(ii) Applicant demonstrates that the targeted industry(ies) in the region hold a competitive advantage or will enhance its competitive advantage through the RISE project.

(iii) Applicant demonstrates that the industry provides significant support of regional assets, including broadband, and provides community and economic development support within the region.

(iv) The RISE project's forecasted outcomes align with RISE objectives.

(v) The RISE project will target support to existing industry(ies), whose significance in the region may be stagnant or on the decline but can be enhanced through outcomes of the RISE project.

(g) Administrator points. A maximum of 10 points will be awarded, with justification, at the discretion of the Agency Administrator. The Administrator may award points to an application by a region comprised primarily of distressed communities with high concentrations of employment in coal, oil and gas industries, and coal-fired generation facilities transitioning away from fossil fueled energy production. A list of qualifying communities, which includes both county and zip code, can be found at http://www.rd.usda.gov/programs-services/rural-innovation-stronger-economy-grants. The Administrator may also award points to an application to achieve geographic distribution of RISE grant awards across the maximum number of States and diversity of industries targeted.

2. Review and Selection Process

The National Office will review applications to determine if they are eligible for assistance based on requirements in 7 CFR part 4284, subpart L, this notice, and other applicable Federal regulations. If determined eligible, your application will be scored by a panel of USDA employees in accordance with the point allocation specified in this notice. The Administrator may choose to award up to 10 Administrator priority points based on criterion (g) in section E.1. of this notice. These points will be added to the cumulative score for a total possible score of 100. Applications will be funded in highest ranking order until the available funding is exhausted. Applications that cannot be fully funded may be offered partial funding at the Agency's discretion. If your application is evaluated, but not funded, it will not be carried forward into the next competition. Successful applicants must comply with requirements identified in Section F, Federal Award Administration Information.

F. Federal Award Administration Information

1. Federal Award Notices

If you are selected for funding, you will receive a signed notice of Federal award by postal or electronic mail from the State Office where your application was submitted, containing instructions and requirements necessary to proceed with execution and performance of the award. You must comply with all applicable statutes, regulations, and notice requirements before the grant award will be funded.

If you are not selected for funding, you will be notified in writing via postal or electronic mail and informed of any review and appeal rights. See 7 CFR part 11 for USDA National Appeals Division procedures. There will be no available funds for successful appellants once all funds available under this notice are awarded and obligated.

2. Administrative and National Policy Requirements

Additional requirements that apply to grantees selected for this program can be found in 7 CFR part 4284, subpart L; the Grants and Agreements regulations of the Department of Agriculture codified in 2 CFR parts 180, 400, 415, 417, 418, 421; 2 CFR parts 25 and 170; and 48 CFR 31.2, and successor regulations to these parts.

In addition, all recipients of Federal financial assistance are required to report information about first-tier subawards and executive compensation (see 2 CFR part 170). You will be required to have the necessary processes and systems in place to comply with the Federal Funding Accountability and Transparency Act of 2006 (Pub. L. 109-282) reporting requirements (see 2 CFR 170.200(b), unless you are exempt under 2 CFR 170.110(b)).

The following additional requirements apply to grantees selected for awards within this program:

(a) Execution of an Agency-approved financial assistance agreement; and

(b) Acceptance of a written letter of conditions; and submission of the following Agency forms:

(1) Form RD 1940-1, “Request for Obligation of Funds.”

(2) Form RD 1942-46, “Letter of Intent to Meet Conditions.”

(3) Form RD 400-1 for construction projects.

3. Reporting

After grant approval and through grant completion, you will be required to provide an SF-425, “Federal Financial Report,” and a performance report on a semiannual basis (due 30 working days after the end of the semiannual period) for the first two years, and then annually thereafter, with the first report submitted no later than six months after receiving a grant under this section The project performance reports shall include the following:

(a) All activities funded with the grant funds.

(b) Evaluation of progress towards strategic initiatives identified in the application for the grant. Discuss any issues which may have occurred.

(c) Measurement of progress using performance measures during the project period, which may include the following:

(1) High wage jobs created;

(2) High wage jobs retained;

(3) Private investment leveraged;

(4) Businesses improved;

(5) Businesses retained;

(6) New business formations;

(7) New products, prototypes and/or services commercialized;

(8) Improvement of the value of existing products or services under development;

(9) Regional collaboration as measured by the number of organizations actively engaged in the industry cluster and/or the number of symposia held by the industry cluster, including organizations that are not located in the immediate region defined by the partnership and/or the number of further cooperative agreements;

(10) Number of educations and training activities relating to the innovation;

(11) Number of innovative products, services and/or prototypes launched;

(12) Number of jobs relocated from outside of the United States to the region;

(13) Amount and number of new equity investments in industry cluster firms;

(14) Amount and number of new loans to industry cluster firms;

(15) Dollar increase in exports resulting from the project activities;

(16) Percentage of employees for which training was provided;

(17) Improvement in sales of participating businesses;

(18) Improvement in wages paid at participating businesses;

(19) Improvement in income of participating workers;

(20) Any measure determined appropriate by the Agency; and

(21) Broadband development in the targeted region.

(d) Initiatives and timetable established for the next reporting period.

(e) Any additional information as found in the annual Federal Register notice.

G. Agency Contacts

If you have questions about this notice, please consult the RISE program web page at https://www.rd.usda.gov/RISE where program guidance as well as application and matching funds templates may be obtained. If you want to submit an electronic application, follow the instructions for the RISE funding announcement located at https://www.grants.gov. You may also contact National Office Program Management Division: RISE Program Lead, cpgrants@usda.gov or call the main line at 202-720-1400.

H. Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/oascr/how-to-file-a-program-discrimination-complaint and at any USDA office, or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410; or

(2) Email: OAC@usda.gov.

USDA is an equal opportunity provider, employer, and lender.

Mark Brodziski,
Acting Administrator, Rural Business-Cooperative Service.

[FR Doc. 2021-12335 Filed 6-14-21; 11:15 am]

BILLING CODE 3410-XY-P